DEPARTMENT OF HOMELAND SECURITY

Federal Emergency Management Agency

[Docket ID FEMA-2019-0002; Internal Agency Docket No. FEMA-B-1981]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Limestone | City of Huntsville (19-04-3429P). | The Honorable Thomas Battle, Jr., Mayor, City of Huntsville, 308 Fountain Circle, 8th Floor, Huntsville, AL 35801. | City Hall, 308 Fountain Circle, 8th Floor, Huntsville, AL 35801. | https://msc.fema.gov/portal/advanceSearch. | Mar. 9, 2020 | 010153
Colorado:
Boulder | City of Lafayette (19-08-0592P). | The Honorable Alexandra Lynch, Mayor, City of Lafayette, 1290 South Public Road, Lafayette, CO 80026. | Planning Department, 1290 South Public Road, Lafayette, CO 80026. | https://msc.fema.gov/portal/advanceSearch. | Mar. 27, 2020 | 080026
Boulder | City of Longmont (19-08-0300P). | The Honorable Brian Bagley, Mayor, City of Longmont, 350 Kimbark Street, Longmont, CO 80501. | Public Works and Natural Resources Department, 385 Kimbark Street, Longmont, CO 80501. | https://msc.fema.gov/portal/advanceSearch. | Mar. 11, 2020 | 080027
Boulder | Unincorporated areas of Boulder County (19-08-0300P). | The Honorable Elise Jones, Chair, Boulder County Board of Commissioners, P.O. Box 471, Boulder, CO 80306. | Boulder County Transportation Department, 2525 13th Street, Suite 203, Boulder, CO 80304. | https://msc.fema.gov/portal/advanceSearch. | Mar. 11, 2020 | 080023
Boulder | Unincorporated areas of Boulder County (19-08-0592P). | The Honorable Elise Jones, Chair, Boulder County Board of Commissioners, P O. Box 471, Boulder, CO 80306. | Boulder County Transportation Department, 2525 13th Street, Suite 203, Boulder, CO 80304. | https://msc.fema.gov/portal/advanceSearch. | Mar. 27, 2020 | 080023
Broomfield | City and County of Broomfield (19-08-0592P). | The Honorable Randy Ahrens, Mayor, City and County of Broomfield, 1 Descombes Drive, Broomfield, CO 80020. | Engineering Department, 1 Descombes Drive, Broomfield, CO 80020. | https://msc.fema.gov/portal/advanceSearch. | Mar. 27, 2020 | 085073
Larimer | Unincorporated areas of Larimer County (19-08-0367P). | The Honorable Tom Donnelly, Chairman, Larimer County Board of Commissioners, P.O. Box 1190, Fort Collins, CO 80522. | Larimer County Engineering Department, 200 West Oak Street, Suite 3000, Fort Collins, CO 80521. | https://msc.fema.gov/portal/advanceSearch. | Feb. 21, 2020 | 080101
Las Animas | Unincorporated areas of Las Animas County (19-08-0389P). | The Honorable Felix M. Lopez, District 1 Commissioner, Las Animas County, 200 East 1st Street, Trinidad, CO 81082. | Las Animas County Courthouse, 200 East 1st Street, Room 106, Trinidad, CO 81082. | https://msc.fema.gov/portal/advanceSearch. | Mar. 12, 2020 | 080105
Connecticut: Tolland | Town of Somers (19-01-0920P). | The Honorable C.G. Knorr, Jr., First Selectman, Town of Somers Board of Selectmen, 600 Main Street, Somers, CT 06071. | Town Hall, 600 Main Street, Somers, CT 06071. | https://msc.fema.gov/portal/advanceSearch. | Mar. 18, 2020 | 090112
Delaware: New Castle | Unincorporated areas of New Castle County (19-03-0484P). | The Honorable Matthew Meyer, New Castle County Executive, 87 Read Way, New Castle, DE 19720. | New Castle County Land Use Department, 87 Read Way, New Castle, DE 19720. | https://msc.fema.gov/portal/advanceSearch. | Feb. 13, 2020 | 105085
Florida:
Charlotte | Unincorporated areas of Charlotte County (19-04-1634P). | The Honorable Ken Doherty, Chairman, Charlotte County Board of Commissioners, 18500 Murdock Circle, Suite 536, Port Charlotte, FL 33948. | Charlotte County Community Development Department, 18500 Murdock Circle, Port Charlotte, FL 33948. | https://msc.fema.gov/portal/advanceSearch. | Apr. 6, 2020 | 120061
Monroe | Unincorporated areas of Monroe County (19-04-6687P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Mar. 2, 2020 | 125129
Monroe | Village of Islamorada (19-04-5432P). | The Honorable Deb Gillis, Mayor, Village of Islamorada, 86800 Overseas Highway, Islamorada, FL 33036. | Building Department, 86800 Overseas Highway, Islamorada, FL 33036. | https://msc.fema.gov/portal/advanceSearch. | Mar. 4, 2020 | 120424
Orange | City of Orlando (19-04-2940P). | The Honorable Buddy Dyer, Mayor, City of Orlando, 400 South Orange Avenue, Orlando, FL 32801. | Public Works Department, Engineering Division, 400 South Orange Avenue, Orlando, FL 32801. | https://msc.fema.gov/portal/advanceSearch. | Mar. 11, 2020 | 120186
Orange | City of Orlando (19-04-3467P). | The Honorable Buddy Dyer, Mayor, City of Orlando, 400 South Orange Avenue, Orlando, FL 32801. | Public Works Department, Engineering Division, 400 South Orange Avenue, Orlando, FL 32801. | https://msc.fema.gov/portal/advanceSearch. | Mar. 4, 2020 | 120186
Orange | Unincorporated areas of Orange County (19-04-2940P). | The Honorable Jerry L. Demings, Mayor, Orange County, 201 South Rosalind Avenue, 5th Floor, Orlando, FL 32801. | Orange County Stormwater Management Department, 4200 South John Young Parkway, Orlando, FL 32839. | https://msc.fema.gov/portal/advanceSearch. | Mar. 11, 2020 | 120179
Orange | Unincorporated areas of Orange County (19-04-3467P). | The Honorable Jerry L. Demings, Mayor, Orange County, 201 South Rosalind Avenue, 5th Floor, Orlando, FL 32801. | Orange County Stormwater Management Department, 4200 South John Young Parkway, Orlando, FL 32839. | https://msc.fema.gov/portal/advanceSearch. | Mar. 4, 2020 | 120179
Osceola | City of St. Cloud (19-04-0759P). | The Honorable Nathan Blackwell, Mayor, City of St. Cloud, 1300 9th Street, St. Cloud, FL 34769. | City Hall, 1300 9th Street, St. Cloud, FL 34769. | https://msc.fema.gov/portal/advanceSearch. | Feb. 28, 2020 | 120191
Osceola | Unincorporated areas of Osceola County (19-04-0759P). | The Honorable Fred Hawkins, Jr., Chairman, Osceola County Board of Commissioners, 1 Courthouse Square, Suite 4700, Kissimmee, FL 34741. | Osceola County Human Resources Department, 1 Courthouse Square, Suite 4700, Kissimmee, FL 34741. | https://msc.fema.gov/portal/advanceSearch. | Feb. 28, 2020 | 120189
Pasco | Unincorporated areas of Pasco County (19-04-0816P). | Mr. Dan Biles, Pasco County Administrator, 8731 Citizens Drive, New Port Richey, FL 34652. | Pasco County Facilities Management Department, 38301 McDonald Street, Dade City, FL 33525. | https://msc.fema.gov/portal/advanceSearch. | Feb. 24, 2020 | 120230
Sarasota | City of Sarasota (19-04-4552P). | The Honorable Liz Alpert, Mayor, City of Sarasota, 1565 1st Street, Room 101, Sarasota, FL 34236. | Development Services Department, 1565 1st Street, Sarasota, FL 34236. | https://msc.fema.gov/portal/advanceSearch. | Feb. 24, 2020 | 125150
Sarasota | City of Sarasota (19-04-5431P). | The Honorable Liz Alpert, Mayor, City of Sarasota, 1565 1st Street, Room 101, Sarasota, FL 34236. | Development Services Department, 1565 1st Street, Sarasota, FL 34236. | https://msc.fema.gov/portal/advanceSearch. | Mar. 13, 2020 | 125150
Georgia: Bryan | Unincorporated areas of Bryan County (19-04-2627P). | The Honorable Carter Infinger, Chairman, Bryan County Board of Commissioners, 51 North Courthouse Street, Pembroke, GA 31321. | Bryan County Engineering Department, 66 Captain Matthew Freeman Drive, Richmond Hill, GA 31324. | https://msc.fema.gov/portal/advanceSearch. | Apr. 3, 2020 | 130016
Louisiana: Lafayette | City of Youngsville (18-06-2837P). | The Honorable Ken Ritter, Mayor, City of Youngsville, 305 Iberia Street, Youngsville, LA 70592. | City Hall, 305 Iberia Street, Youngsville, LA 70592. | https://msc.fema.gov/portal/advanceSearch. | Feb. 6, 2020 | 220358
Montana:
Gallatin | City of Bozeman (19-08-0500P). | Ms. Andrea Surratt, City of Bozeman Manager, P.O. Box 1230, Bozeman, MT 59771. | City Hall, 20 East Olive Street, Bozeman, MT 59715. | https://msc.fema.gov/portal/advanceSearch. | Mar. 2, 2020 | 300028
Gallatin | Unincorporated areas of Gallatin County (19-08-0500P). | The Honorable Joe P. Skinner, Chairman, Gallatin County Board of Commissioners, 311 West Main Street, Room 306, Bozeman, MT 59715. | Gallatin County Department of Planning and Community Development Department, Bozeman, MT 59715. | https://msc.fema.gov/portal/advanceSearch. | Mar. 2, 2020 | 300027
Nevada:
Clark | City of Henderson (19-09-0090P). | Mr. Richard A. Derrick, City of Henderson Manager, P.O. Box 95050, Henderson, NV 89009. | Public Works Department, 240 South Water Street, Henderson, NV 89009. | https://msc.fema.gov/portal/advanceSearch. | Feb. 5, 2020 | 320005
Clark | Unincorporated areas of Clark County (19-09-0090P). | The Honorable Marilyn Kirkpatrick, Chair, Clark County Board of Commissioners, 500 South Grand Central Parkway, Las Vegas, NV 89155. | Clark County Drainage Review Department, 500 South Grand Central Parkway, Las Vegas, NV 89155. | https://msc.fema.gov/portal/advanceSearch. | Feb. 5, 2020 | 320003
North Carolina:
Cherokee | Unincorporated areas of Cherokee County (18-04-7507P). | The Honorable Gary Westmoreland, Chairman, Cherokee County Board of Commissioners, 75 Peachtree Street, Murphy, NC 28906. | Cherokee County GIS Mapping Department, 75 Peachtree Street, Murphy, NC 28906. | https://msc.fema.gov/portal/advanceSearch. | Feb. 6, 2020 | 370059
Cleveland | Unincorporated areas of Cleveland County (19-04-0261P). | The Honorable Susan K. Allen, Chair, Cleveland County Board of Commissioners, 311 East Marion Street, Shelby, NC 28151. | Cleveland County Planning Department, 1333 Fallston Road, Shelby, NC 28151. | https://msc.fema.gov/portal/advanceSearch. | Mar. 6, 2020 | 370302
Oklahoma: Tulsa | City of Bixby (19-06-2128P). | The Honorable Brian Guthrie, Mayor, City of Bixby, P.O. Box 70, Bixby, OK 74008. | Development Services Department, 113 West Dawes, Bixby, OK 74008. | https://msc.fema.gov/portal/advanceSearch. | Mar. 12, 2020 | 400207
South Carolina: Horry | City of Myrtle Beach (19-04-5527P) | Mr. John Pedersen, City of Myrtle Beach Manager, 937 Broadway Street, Myrtle Beach, SC 29577. | City Services Department, 921 North Oak Street, Myrtle Beach, SC 29577. | https://msc.fema.gov/portal/advanceSearch. | Mar. 13, 2020 | 450109
Texas:
Bexar | City of Schertz (19-06-1878P). | The Honorable Michael Carpenter, Mayor, City of Schertz, 1400 Schertz Pkwy, Schertz, TX 78154. | Public Works Department, Floodplain Management Division, 10 Commercial Place, Schertz, TX 78154. | https://msc.fema.gov/portal/advanceSearch. | Feb. 10, 2020 | 480269
Bexar | Unincorporated areas of Bexar County (19-06-0327P). | The Honorable Nelson W. Wolff, Bexar County Judge, 101 West Nueva Street, 10th Floor, San Antonio, TX 78205. | Bexar County Public Works Department, 1948 Probandt Street, San Antonio, TX 78214. | https://msc.fema.gov/portal/advanceSearch. | Feb. 18, 2020 | 480035
Collin | City of Murphy (19-06-0931P). | The Honorable Scott Bradley, Mayor, City of Murphy, 206 North Murphy Road, Murphy, TX 75094. | City Hall, 206 North Murphy Road, Murphy, TX 75094. | https://msc.fema.gov/portal/advanceSearch. | Feb. 10, 2020 | 480137
Collin | City of Plano (20-06-0039P). | The Honorable Harry LaRosiliere, Mayor, City of Plano, 1520 K Avenue, Plano, TX 75074. | Department of Engineering, 1520 K Avenue, Plano, TX 75074. | https://msc.fema.gov/portal/advanceSearch. | Feb. 28, 2020 | 480140
Collin | City of Sachse (19-06-0931P). | The Honorable Mike Felix, Mayor, City of Sachse, 3815 Sachse Road, Building B, Sachse, TX 75048. | Public Works Department, 3815 Sachse Road, Building B, Sachse, TX 75048. | https://msc.fema.gov/portal/advanceSearch. | Feb. 10, 2020 | 480186
Dallas | City of Grand Prairie (19-06-2040P). | The Honorable Ron Jensen, Mayor, City of Grand Prairie, P.O. Box 534045, Grand Prairie, TX 75053. | Development Department, 206 West Church Street, Grand Prairie, TX 75050. | https://msc.fema.gov/portal/advanceSearch. | Mar. 6, 2020 | 485472
Denton | Town of Argyle (19-06-1846P). | The Honorable Donald Moser, Mayor, Town of Argyle, P.O. Box 609, Argyle, TX 76226. | Town Hall, 308 Denton Street, Argyle, TX 76226. | https://msc.fema.gov/portal/advanceSearch. | Feb. 28, 2020 | 480775
Johnson | City of Burleson (19-06-0971P). | The Honorable Ken Shetter, Mayor, City of Burleson, 141 West Renfro Street, Burleson, TX 76028. | City Hall, 141 West Renfro Street, Burleson, TX 76028. | https://msc.fema.gov/portal/advanceSearch. | Feb. 24, 2020 | 485459
McClennan | City of Waco (18-06-2475P). | The Honorable Kyle Deaver, Mayor, City of Waco, P.O. Box 2570, Waco, TX 76702. | Public Works Department, 401 Franklin Avenue, Waco, TX 76701. | https://msc.fema.gov/portal/advanceSearch. | Feb. 7, 2020 | 480461
Tarrant | City of Arlington (19-06-1226P). | The Honorable Jeff Williams, Mayor, City of Arlington, P.O. Box 90231, Arlington, TX 76004. | Public Works and Transportation Department, 101 West Abram Street, Arlington, TX 76010. | https://msc.fema.gov/portal/advanceSearch. | Feb. 27, 2020 | 485454
Tarrant | City of Fort Worth (19-06-0840P). | The Honorable Betsy Price, Mayor, City of Fort Worth, 200 Texas Street, Fort Worth, TX 76102. | Transportation and Public Works, Engineering Department, 200 Texas Street, Fort Worth, TX 76102. | https://msc.fema.gov/portal/advanceSearch. | Mar. 2, 2020 | 480596
Tarrant | City of Fort Worth (19-06-3630P). | The Honorable Betsy Price, Mayor, City of Fort Worth, 200 Texas Street, Fort Worth, TX 76102. | Transportation and Public Works, Engineering Department, 200 Texas Street, Fort Worth, TX 76102. | https://msc.fema.gov/portal/advanceSearch. | Feb. 28, 2020 | 480596
Utah:
Washington | City of St. George (19-08-0174P). | The Honorable Jon Pike, Mayor, City of St. George, 175 East 200 North, St. George, UT 84770. | Public Works Department, 175 East 200 North, St. George, UT 84770. | https://msc.fema.gov/portal/advanceSearch. | Feb. 21, 2020 | 490177
Washington | City of Santa Clara (19-08-0174P). | The Honorable Rick Rosenberg, Mayor, City of Santa Clara, 2603 Santa Clara Drive, Santa Clara, UT 84765. | Building Department, 2603 Santa Clara Drive, Santa Clara, UT 84765. | https://msc.fema.gov/portal/advanceSearch. | Feb. 21, 2020 | 490178
Virginia:
Albemarle | Unincorporated areas of Albemarle County (19-03-1243P). | Mr. Jeff Richardson, Albemarle County Executive, 401 McIntire Road, Charlottesville, VA 22902. | Albemarle County Community Development Department, 401 McIntire Road, Charlottesville, VA 22902. | https://msc.fema.gov/portal/advanceSearch. | Mar. 19, 2020 | 510006
Charlotte | Town of Drakes Branch (19-03-0477P). | The Honorable Denise L. Pridgen, Mayor, Town of Drakes Branch, P.O. Box 191, Drakes Branch, VA 23937. | Town Hall, 4800 Drakes Main Street, Drakes Branch, VA 23937. | https://msc.fema.gov/portal/advanceSearch. | Apr. 14, 2020 | 510032
Independent City | City of Charlottesville (19-03-1243P). | Mr. Tarron J. Richardson, City of Charlottesville Manager, P.O. Box 911, Charlottesville, VA 22902. | Neighborhood Development Services Department, 610 East Market Street, Charlottesville, VA 22902. | https://msc.fema.gov/portal/advanceSearch. | Mar. 19, 2020 | 510033

[FR Doc. 2019-27959 Filed 12-26-19; 8:45 am]

BILLING CODE 9110-12-P